DEPARTMENT OF THE INTERIOR

Bureau of Land Management

[BLM_NV_FRN_MO4500175288]

Notice of Extension of Segregation of Public Lands for the Rough Hat Clark County Solar Project, Clark County, NV

AGENCY: Bureau of Land Management, Interior.

ACTION: Notice of segregation extension.

SUMMARY: The Bureau of Land Management (BLM) segregated public lands included in the right-of-way application (N-099406) for the Rough Hat Clark County Solar Project from appropriation under the public land laws, including the Mining Law, but not the mineral leasing or material sales acts, for a period of 2 years on October 20, 2021, subject to valid existing rights. This 2-year extension of the segregation is necessary to allow the BLM to complete review of the Rough Hat Clark County Solar Project application and reach a decision on the application.

DATES: This segregation extension for the lands identified in this notice is effective on October 20, 2023.

FOR FURTHER INFORMATION CONTACT: For further information and/or to have your name added to the project mailing list, send requests to: Whitney Wirthlin, Southern Nevada District Energy and Infrastructure Team, at telephone (702) 515-5084; address 4701 North Torrey Pines Drive, Las Vegas, NV 89130-2301; or email BLM_NV_SND_EnergyProjects@blm.gov. Individuals in the United States who are deaf, deafblind, hard of hearing, or have a speech disability may dial 711 (TTY, TDD, or TeleBraille) to access telecommunications relay services for contacting Whitney Wirthlin. Individuals outside the United States should use the relay services offered within their country to make international calls to the point-of contact in the United States.

SUPPLEMENTARY INFORMATION: This notice extends the segregation published in the Federal Register on October 20, 2021 (86 FR 58301) for an additional 2 years. Candela Renewables, LLC, submitted a right-of-way application to the BLM Las Vegas Field Office for the Rough Hat Clark County Solar Project requesting authorization to construct, operate, maintain, and eventually decommission a 400-megawatt photovoltaic solar electric generating facility, battery storage facilities, associated generation tie-line, and access road facilities. The BLM has made substantial progress in the review of the Rough Hat Clark County Solar Project right-of-way application; however, the BLM needs additional time to complete its review and make a decision on the application.

The BLM completed the variance process required by the solar programmatic environmental impact statement and determined it was appropriate to continue processing the application. On October 21, 2022, the BLM published in the Federal Register (87 FR 68187) a Notice of Intent to amend the Las Vegas Resource Management Plan (RMP) and prepare an environmental impact statement (EIS) for the proposed Rough Hat Clark County Solar Project in Clark County, Nevada. The BLM is currently preparing the draft RMP amendment/EIS.

Authority: 43 CFR 2091.3-1(e) and 43 CFR 2804.25(f).

Jon K. Raby,
Nevada State Director.

[FR Doc. 2023-23057 Filed 10-18-23; 8:45 am]

BILLING CODE 4331-21-P